DEPARTMENT OF TRANSPORTATION

Office of the Secretary

Notice of Applications for Certificates of Public Convenience and Necessity and Foreign Air Carrier Permits Filed Under Subpart Q during the Week Ending March 2, 2001

The following Applications for Certificates of Public Convenience and Necessity and Foreign Air Carrier Permits were filed under subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1996-2008.

Date Filed: February 27, 2001.

Due Date for Answers, Conforming Applications, or Motion to Modify Scope: March 20, 2001.

Description: Amendment of China Southern Airlines Company, Limited to its Application requesting a Foreign Air Carrier Permit pursuant to 49 U.S.C. 41301 and subpart B of the Departments regulations, revising the original description of authority sought to include authority to operate from Shenzhen and Guangzhou and to Los Angeles, Anchorage and Chicago, as follows: authority to conduct foreign air transportation of persons, property and mail between Guangzhou, China and Los Angeles; and of property and mail between Shenzhen, China and Anchorage and Chicago.

Docket Number: OST-2001-9027.

Date Filed: February 28, 2001.

Due Date for Answers, Conforming Applications, or Motion to Modify Scope: March 21, 2001.

Description: Joint Application of American Airlines, Inc., TWA Airlines LLC, and Trans World Airlines, Inc. pursuant to 49 U.S.C. 41105 and subpart B, applies for the transfer of TWA's certificates of public convenience and necessity and other route authorities, identified in Exhibit 1, to American and TWA Airlines LLC, and under 49 U.S.C. Section 41109 for associated exemptions. The joint applicants are requesting that the answer period be shortened to March 14, 2001.

Docket Number: OST-2001-8910.

Date Filed: March 2, 2001.

Due Date for Answers, Conforming Applications, or Motion to Modify Scope: March 14, 2001.

Description: Application of American Airlines, Inc. pursuant to 49 U.S.C. 41102, subpart B, and in response to the Department's Notice, applies for a certificate of public convenience and necessity to engage in scheduled foreign air transportation of persons, property, and mail between Miami, Florida and Medellin, Colombia, and the allocation of seven weekly frequencies. American also requests route integration with its other certificates and exemptions to conduct foreign air transportation.

Docket Number: OST-2001-8910.

Date Filed: March 2, 2001.

Due Date for Answers, Conforming Applications, or Motion to Modify Scope: March 14, 2001.

Description: Application of Continental Airlines, Inc. pursuant to 49 U.S.C. 41108, 41102, subpart B, and in response to the Department's Notice, applies for a certificate of public convenience and necessity authorizing Continental to provide scheduled foreign air transportation of persons, property and mail between New York/Newark, New Jersey, and Cali and Medellin, Colombia, and for an allocation of seven U.S. Colombia frequencies.

Dorothy Y. Beard,
Federal Register Liaison.

[FR Doc. 01-6356 Filed 3-13-01; 8:45 am]

BILLING CODE 4910-62-P